NUCLEAR REGULATORY COMMISSION

[Docket Nos. 50-325 and 50-324]

Carolina Power & Light Company; Brunswick Steam Electric Plant, Units 1 and 2; Notice of Withdrawal of Application for Amendment to Facility Operating License

The U.S. Nuclear Regulatory Commission (NRC, the Commission) has granted the request of Carolina Power & Light Company (the licensee) to withdraw its August 13, 2007, application, as supplemented by letter dated June 19, 2008, for proposed amendments to Facility Operating License Nos. 325 and 50-324 for Brunswick Steam Electric Plant, Units 1 and 2 (BSEP), located in Brunswick County, North Carolina.

The proposed amendment would have revised BSEP's Technical Specification (TS) Table 3.3.1.2-1, “Source Range Monitor [SRM] Instrumentation,” to add a footnote that specifies the required locations of operable SRMs in Mode 5 during core alternations, and to make an administrative correction to Surveillance Requirement 3.3.1.2.2 in the Unit 1 TSs.

The Commission had previously issued a Notice of Consideration of Issuance of Amendment published in the Federal Register on February 26, 2008 (73 FR 1025). Subsequently, the licensee determined to no longer pursue NRC approval of the proposed license amendments and by letter dated September 22, 2008, the licensee withdrew the request.

For further details with respect to this action, see the application for amendments dated August 13, 2007, as supplemented by letter dated June 19, 2008, and the licensee's letter dated September 22, 2008, which withdrew the application for license amendments. Documents may be examined, and/or copied for a fee, at the NRC's Public Document Room (PDR), located at One White Flint North, Public File Area 01 F21, 11555 Rockville Pike (first floor), Rockville, Maryland. Publicly available records will be accessible electronically from the Agencywide Documents Access and Management System (ADAMS) Public Electronic Reading Room on the Internet at the NRC Web site, http://www.nrc.gov/reading-rm.html. Persons who do not have access to ADAMS or who encounter problems in accessing the documents located in ADAMS should contact the NRC PDR Reference staff by telephone at 1-800-397-4209 or 301-415-4737, or by e-mail to pdr@nrc.gov.

Dated at Rockville, Maryland, this 25th day of September 2008.
For the Nuclear Regulatory Commission.
Farideh E. Saba,
Senior Project Manager, Plant Licensing Branch II-2, Division of Operating Reactor Licensing, Office of Nuclear Reactor Regulation.

[FR Doc. E8-23093 Filed 9-30-08; 8:45 am]

BILLING CODE 7590-01-P